Title 3—

The President

Notice of September 30, 2025

Continuation of the National Emergency With Respect to the Situation in and in Relation to Syria

On October 14, 2019, by Executive Order 13894, I declared a national emergency pursuant to the International Emergency Economic Powers Act (50 U.S.C. 1701 et seq.) to deal with the unusual and extraordinary threat to the national security and foreign policy of the United States constituted by the situation in and in relation to Syria. On January 15, 2025, the President issued Executive Order 14142 in view of changing circumstances on the ground in Syria and in order to take additional steps with respect to the national emergency declared in Executive Order 13894.

On June 30, 2025, I issued Executive Order 14312 to expand the scope of the national emergency declared in Executive Order 13894 and to take additional steps to ensure meaningful accountability for perpetrators of war crimes, human rights violations and abuses, and the proliferation of narcotics trafficking networks in and in relation to Syria during the former regime of Bashar al-Assad and by those associated with it, as perpetrators of such actions threaten to undermine the peace, security, and stability in the region, among other things.

The situation in and in relation to Syria undermines the campaign to defeat the Islamic State of Iraq and Syria, or ISIS, endangers civilians, and further threatens to undermine the peace, security, and stability in the region. Furthermore, additional steps must be taken to ensure meaningful accountability for perpetrators of war crimes, human rights violations and abuses, and the proliferation of narcotics trafficking networks in and in relation to Syria during the former regime of Bashar al-Assad and by those associated with it. Perpetrators of such actions continue to threaten to undermine the peace, security, and stability in the region. This situation continues to pose an unusual and extraordinary threat to the national security and foreign policy of the United States. For this reason, the national emergency declared in Executive Order 13894 of October 14, 2019, with respect to which additional steps were taken in Executive Order 14142 of January 15, 2025, and which was expanded in scope in Executive Order 14312 of June 30, 2025, must continue in effect beyond October 14, 2025. Therefore, in accordance with section 202(d) of the National Emergencies Act (50 U.S.C. 1622(d)), I am continuing for 1 year the national emergency declared in Executive Order 13894 with respect to the situation in and in relation to Syria.

This notice shall be published in the Federal Register and transmitted to the Congress.

THE WHITE HOUSE,

September 30, 2025.

[FR Doc. 2025-19458

Filed 10-1-25; 2:00 pm]

Billing code 3395-F4-P